DEPARTMENT OF TRANSPORTATION

Surface Transportation Board

[STB Docket No. AB-33 (Sub-No. 239X)]

Union Pacific Railroad Company— Discontinuance Exemption— in Oklahoma City, OK

Union Pacific Railroad Company (UP) has filed a verified notice of exemption under 49 CFR part 1152 subpart F—Exempt Abandonments and Discontinuances of Service to discontinue service over a 0.42-mile line of railroad between Stiles Avenue to the point of connection with the BNSF Railway Company (BNSF) line near Second Street (the Old Rock Island Main) in Oklahoma City, Oklahoma County, OK.¹ There are no mileposts on the line. The line traverses United States Postal Service Zip Code 73102.

¹ Apparently, BNSF holds trackage rights authority over the line which will not be affected by this exemption.

UP has certified that: (1) No traffic has moved over the line for at least 2 years; (2) there is no overhead traffic on the line; (3) no formal complaint filed by a user of rail service on the line (or by a state or local government entity acting on behalf of such user) regarding cessation of service over the line either is pending with the Board or with any U.S. District Court or has been decided in favor of complainant within the 2-year period; and (4) the requirements at 49 CFR 1105.12 (newspaper publication) and 49 CFR 1152.50(d)(1) (notice to governmental agencies) have been met.

As a condition to this exemption, any employee adversely affected by the abandonment shall be protected under Oregon Short Line R. Co.—Abandonment—Goshen, 360 I.C.C.91 (1979). To address whether this condition adequately protects affected employees, a petition for partial revocation under 49 U.S.C. 10502(d) must be filed.

Provided no formal expression of intent to file an offer of financial assistance (OFA) has been received, this exemption will be effective on April 15, 2006, unless stayed pending reconsideration. Petitions to stay that do not involve environmental issues and formal expressions of intent to file an OFA for continued rail service under 49 CFR 1152.27(c)(2),² must be filed by March 27, 2006.³ Petitions to reopen must be filed by April 5, 2006, with the Surface Transportation Board, 1925 K Street, NW., Washington, DC 20423-0001.

² Each offer of financial assistance must be accompanied by the filing fee, which currently is set at $1,200. See 49 CFR 1002.2(f)(25).

³ Because this is a discontinuance proceeding and not an abandonment, trail use/rail banking and public use conditions are not appropriate. Likewise, no environmental or historical documentation is required here under 49 CFR 1105.6(c) and 1105.8(b), respectively.

A copy of any petition filed with the Board should be sent to UP's representative: Robert T. Opal, General Commerce Counsel, Union Pacific Railroad Company, 1400 Douglas St., STOP 1580, Omaha, NE 68179.

If the verified notice contains false or misleading information, the exemption is void ab initio.

Board decisions and notices are available on our Web site at http://www.stb.dot.gov.

Decided: March 10, 2006.
By the Board, David M. Konschnik, Director, Office of Proceedings.
Vernon A. Williams,
Secretary.

[FR Doc. E6-3832 Filed 3-15-06; 8:45 am]

BILLING CODE 4915-01-P